ENVIRONMENTAL PROTECTION AGENCY

40 CFR Part 300

[EPA-HQ-SFUND-2009-0466; FRL-8932-5]

National Oil and Hazardous Substance Pollution Contingency Plan; National Priorities List

AGENCY: Environmental Protection Agency.

ACTION: Direct final notice of deletion of the Central Wood Preserving Company Superfund Site from the National Priorities List.

SUMMARY: The Environmental Protection Agency (EPA) region 6 is publishing a direct final notice of deletion of the Central Wood Preserving Company Superfund Site (Site), located in East Feliciana Parish, Louisiana, from the National Priorities List (NPL). The NPL, promulgated pursuant to section 105 of the Comprehensive Environmental Response, Compensation, and Liability Act (CERCLA) of 1980, as amended, is an appendix of the National Oil and Hazardous Substances Pollution Contingency Plan (NCP). This direct final deletion is being published by EPA with the concurrence of the State of Louisiana; through the Louisiana Department of Environmental Quality because EPA has determined that all appropriate response actions under CERCLA have been completed. However, this deletion does not preclude future actions under Superfund.

DATES: This direct final deletion will be effective September 18, 2009 unless EPA receives adverse comments by August 19, 2009. If adverse comments are received, EPA will publish a timely withdrawal of the direct final deletion in the Federal Register informing the public that the deletion will not take effect.

ADDRESSES: Submit your comments, identified by Docket ID No. EPA-HQ-SFUND-2009-0466, by one of the following methods:

• http://www.regulations.gov. Follow on-line instructions for submitting comments.

• E-mail: stankosky.laura@epa.gov.

• Fax: (214) 665-6660.

• Mail: Laura Stankosky, Remedial Project Manager (RPM) (6SF-RL), U.S. Environmental Protection Agency, Region 6, 1445 Ross Avenue, Dallas, Texas 75202-2733, telephone (214) 665-7525.

• Hand delivery: U.S. Environmental Protection Agency, Region 6, 1445 Ross Avenue, Dallas, Texas 75202-2733. Such deliveries are only accepted during the Docket's normal hours of operation, and special arrangements should be made for deliveries of boxed information.

Instructions: Direct your comments to Docket ID No. EPA-HQ-SFUND-2009-0466. EPA's policy is that all comments received will be included in the public docket without change and may be made available online at http://www.regulations.gov, including any personal information provided, unless the comment includes information claimed to be Confidential Business Information (CBI) or other information whose disclosure is restricted by statute. Do not submit information that you consider to be CBI or otherwise protected through http://www.regulations.gov or e-mail. The http://www.regulations.gov Web site is an “anonymous access” system, which means EPA will not know your identity or contact information unless you provide it in the body of your comment. If you send an e-mail comment directly to EPA without going through http://www.regulations.gov, your e-mail address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses.

Docket

All documents in the docket are listed in the http://www.regulations.gov index. Although listed in the index, some information is not publicly available, e.g., CBI or other information whose disclosure is restricted by statue. Certain other material, such as copyrighted material, will be publicly available only in the hard copy. Publicly available docket materials are available either electronically in http://www.regulations.gov or in hard copy at:

U.S. EPA, Region 6, by appointment in the 7th Floor Reception Area, 1445 Ross Ave. Dallas, TX 75202-2722, (214) 665-7525, Monday through Friday 9 a.m. to 4 p.m; Audubon Regional Library Clinton Branch, 12220 Woodville Street, Clinton, LA 70722 (225) 683-8753 Monday through Thursday 9 a.m. to 5 p.m, Friday 9 a.m. to 3 p.m, and Saturday 9 a.m. to 1 p.m; Louisiana Department of Environmental Quality, Galvez Building, 602 North Fifth Street, Baton Rouge, LA 70802, (225) 219-5337 Monday through Friday 8 a.m. to 4:30 p.m.

FOR FURTHER INFORMATION CONTACT: Laura Stankosky, Remedial Project Manager (RPM) (6SF-RL), (stankosky.laura@epa.gov) U.S. Environmental Protection Agency, Region 6, 1445 Ross Avenue, Dallas, Texas 75202-2733, telephone (214) 665-7525 or toll-free (800) 533-3508.

SUPPLEMENTARY INFORMATION:

Table of Contents:

I. Introduction

II. NPL Deletion Criteria

III. Deletion Procedures

IV. Basis for Site Deletion

V. Deletion Action

I. Introduction

EPA Region 6 is publishing this direct final notice of deletion of the Central Wood Preserving Company Superfund Site (Site) from the National Priorities List (NPL). The NPL constitutes Appendix B of 40 CFR part 300, which is the Oil and Hazardous Substances Pollution Contingency Plan (NCP), which EPA promulgated pursuant to section 105 of the Comprehensive Environmental Response, Compensation and Liability Act (CERCLA) of 1980, as amended. EPA maintains the NPL as the list of sites that appear to present a significant risk to public health, welfare, or the environment. Sites on the NPL may be the subject of remedial actions financed by the Hazardous Substance Superfund (Fund). As described in 300.425(e)(3) of the NCP, sites deleted from the NPL remain eligible for Fund-financed remedial actions if future conditions warrant such actions.

Because EPA considers this action to be noncontroversial and routine, this action will be effective September 18, 2009 unless EPA receives adverse comments by August 19, 2009. Along with this direct final Notice of Deletion, EPA is co-publishing a Notice of Intent to Delete in the “Proposed Rules” section of the Federal Register. If adverse comments are received within the 30-day public comment period on this deletion action, EPA will publish a timely withdrawal of this direct final Notice of Deletion before the effective date of the deletion, and the deletion will not take effect. EPA will, as appropriate, prepare a response to comments and continue with the deletion process on the basis of the notice of intent to delete and the comments already received. There will be no additional opportunity to comment.

Section II of this document explains the criteria for deleting sites from the NPL. Section III discusses procedures that EPA is using for this action. Section IV discusses Central Wood Preserving Company Superfund Site and demonstrates how it meets the deletion criteria. Section V discusses EPA's action to delete the Site from the NPL unless adverse comments are received during the public comment period.

II. NPL Deletion Criteria

The NCP establishes the criteria that EPA uses to delete sites from the NPL. In accordance with 40 CFR 300.425(e), sites may be deleted from the NPL where no further response is appropriate. In making such a determination pursuant to 40 CFR 300.425(e), EPA will consider, in consultation with the State, whether any of the following criteria have been met:

i. Responsible parties or other persons have implemented all appropriate response actions required;

ii. All appropriate Fund-financed response under CERCLA has been implemented, and no further response action by responsible parties is appropriate; or

iii. The remedial investigation has shown that the release poses no significant threat to public health or the environment and, therefore, the taking of remedial measures is not appropriate. Pursuant to CERCLA section 121 (c) and the NCP, EPA conducts five-year reviews to ensure the continued protectiveness of remedial actions where hazardous substances, pollutants, or contaminants remain at a site above levels that allow for unlimited use and unrestricted exposure. EPA conducts such five-year reviews even if a site is deleted from the NPL. EPA may initiate further action to ensure continued protectiveness at a deleted site if new information becomes available that indicates it is appropriate. Whenever there is a significant release from a site deleted from the NPL, the deleted site may be restored to the NPL without application of the hazard ranking system.

III. Deletion Procedures

The following procedures apply to deletion of the Site:

(1) EPA consulted with the State of Louisiana prior to developing this direct final notice of deletion and the notice of intent to delete co-published today in the “Proposed Rules” section of the Federal Register.

(2) EPA has provided the state 30 working days for review of this notice and the parallel Notice of Intent to Delete prior to their publication today, and the state, through the [Enter state agency], has concurred on the deletion of the Site from the NPL.

(3) Concurrently with the publication of this direct final notice of deletion, a notice of the availability of the parallel notice of intent to delete is being published in a major local newspaper, [Enter major local newspaper of general circulation]. The newspaper notice announces the 30-day public comment period concerning the notice of intent to delete the Site from the NPL.

(4) The EPA placed copies of documents supporting the proposed deletion in the deletion docket and made these items available for public inspection and copying at the Site information repositories identified above.

(5) If adverse comments are received within the 30-day public comment period on this document, EPA will publish a timely notice of withdrawal of this direct final notice of deletion before its effective date and will prepare a response to comments and continue with the deletion process on the basis of the notice of intent to delete and the comments already received.

Deletion of a site from the NPL does not itself create, alter, or revoke any individual's rights or obligations. Deletion of a site from the NPL does not in any way alter EPA's right to take enforcement actions, as appropriate. The NPL is designed primarily for informational purposes and to assist EPA management. Section 300.425(e)(3) of the NCP states that the deletion of a site from the NPL does not preclude eligibility for future response actions, should future conditions warrant such actions.

IV. Basis for Site Deletion

The following information provides EPA's rationale for deleting the Site from the NPL:

Site Location

The Central Wood Preserving Company Superfund Site, EPA ID LAD008187940, is located in an unincorporated area in the southern portion of East Feliciana Parish, Louisiana, approximately 25 miles north of Baton Rouge. The site is situated north and south of State Highway (SH) 959, about one mile east of Highway 67. The site consists of two distinct properties. The property on the north side of SH 959 (“North Property”) was used as the main wood treatment process area, and the property on the south side of SH 959 (“South Property”) was operated as a raw lumber saw mill. The combined acreage of the North Property (10.03 acres) and South Property (7.05 acres) is approximately 17.08 acres. A creek (historically and herein referred to as “Unnamed Creek”) is located along the east-southeast side of both properties. This creek is intermittent near the site; when it has water, it flows south-southwest to intersect with Little Sandy Creek approximately 1.5 miles south of SH 959.

Site History

The facility operated from the 1950s to January 1, 1973, as Central Creosoting Company, Incorporated. During that time creosote was used exclusively as the wood preservative.

On January 3, 1973, the facility was sold and began operating under the name Central Wood Preserving Company, Inc., and the use of creosote was discontinued. Wood preserving from that time onward was accomplished with Wolmanac, a solution of copper oxide, chromic acid, and arsenic acid (chromated copper arsenate, known as CCA). Throughout the facility's history, treated wood was distributed throughout the property for drying. The source of contamination is the result of spillage of creosote and Wolmanac on the site property over a period of 40 years. The site is currently owned by the East Feliciana Parish. While the parish had originally planned to redevelop the property as a public park with recreational facilities, funding for development did not become available. The site is currently being used to stage hurricane wood and brush debris for Hurricane Katrina. This material is removed as disposal space is located.

In November 1983, the Site was confirmed as a Resource, Conservation, and Recovery Act (RCRA) small quantity generator of hazardous waste consisting of CCA. Since that time, regulatory activities have included involvement by the Louisiana Department of Environmental Quality (LDEQ) and EPA. In 1992, following a request by LDEQ, the EPA Technical Assistance Team (TAT) conducted a Preliminary Site Assessment. This assessment and subsequent more detailed site assessments and inspections conducted through 1995 indicated elevated levels of arsenic and chromium in soil and sediment, and asbestos fibers in insulation samples.

An EPA Action Memorandum was issued on April 3, 1995. This memorandum provided for a Time-Critical Removal Action to address source control at the site. The EPA TAT initiated the Time-Critical Removal Action on April 12, 1995. During the removal action, several site structures, tank contents, and an area of contaminated surface soil near the main facility operations area (about 1,250 cubic yards [CY]) were removed from the site. The containment basin contents were also removed and the basin sandblasted and backfilled with soil. From July to December 1995, the EPA TAT conducted an Expanded Site Inspection (ESI) to gather data for Hazard Ranking System (HRS) documentation.

In May 1999, the site was added to the National Priorities List (NPL) (May 10, 1999 (64 FR 24949)).

Remedial Investigation and Feasibility Study (RI/FS)

EPA initiated a Remedial Investigation/Feasibility Study (RI/FS) in 1999. The RI and FS were completed in September and November 2000, respectively. Soil samples were collected during the RI and during site assessment/site inspections from both the North and the South Properties. Results of the analyses conducted during the course of the various investigations, including the RI, indicated that the most significant contamination was from arsenic, chromium, copper, and polynuclear aromatic hydrocarbons (PAHs) in soil and sediment. Analysis of the distribution and concentrations of chromium and copper indicated that the occurrence of these compounds corresponded well with the occurrence of arsenic. The highest concentration of PAH contamination was observed in the vicinity of the former process area and drainage way leading to the Unnamed Creek. On the South Property, creosote was limited to the drainage along the eastern property border. In the Unnamed Creek, both sediment and surface water were sampled. Arsenic contamination was found in sediment up to a depth of 1.5 feet in various discrete hot spots. Some creosote-related constituents were also detected.

Ground water evaluation performed during the RI indicated the shallow 10 feet bgs ground water zone is not laterally continuous beyond the former process area and drainage way, and does not demonstrate significant volumes of water (one of three wells installed in this zone did not generate enough water to sample). No site contamination was found in the ground water encountered at 55 to 65 feet bgs, additionally this ground water demonstrates capacities that are borderline at best for meeting Louisiana Department of Environmental Quality's (LDEQ's) 2B classification for potentially potable ground water, and ground water is not used from within this or any other zone in the vicinity of the site.

A baseline risk assessment, including an ecological assessment, was completed in September 2000, which estimated the probability and magnitude of potential adverse human health and environmental effects from exposure to contaminants associated with the site assuming no remedial action was taken.

As outlined in the ROD, Risk Characterization results were as follows:

For the North Property, Cancer risk for trespassers, future adult residents and future construction workers were above acceptable levels and non-cancer risks for trespassers, future adult and child were above the acceptable levels

For the South Property, Cancer risk for future adult residents and future construction workers were above acceptable levels and non-cancer risks for future construction workers and future adult and child were above acceptable levels

For sediment/soil in Segment 1 of the Unnamed Creek, Both the cancer risk and non-cancer risk for the recreational youth was above acceptable levels. The downstream segments of the unnamed creek did not have risk above acceptable levels

Ecological Risk Assessment. Contaminants of Concern (COCs) were arsenic, copper, and chromium. The results of the baseline ecological risk assessment on the North and South properties and the Unnamed Creek indicated that: (1) There was minimal risk to the terrestrial and riparian wildlife target receptors, and (2) there was risk to the benthic receptors. A 14-day Hyallela azteca bioassay, benthic surveys and sediment chemistry, indicated that the observed mortality in the bioassays is not attributable to site related contamination, and the low diversity of benthic organisms in the Unnamed Creek may be a result of limited physical habitat. Therefore, the final conclusion by the Agency is that by addressing the arsenic levels as per the human health risk assessment, the copper will be also addressed, thereby addressing the ecological risk.

Selected Remedy

The Record of Decision (ROD), signed April 5, 2001, set forth the selected remedy for the site soils and sediments as removal and Low Temperature Thermal Desorption (LTTD) on-site, with off-site stabilization and disposal of removed soils, institutional controls and ground water monitoring.

The ROD also established Remedial Action Objectives (RAOs) for the North and South Properties and the Unnamed Creek. The RAOs for the North and South Properties are to prevent human ingestion of, dermal contact with, or inhalation of soil and sediments and human contact with structure/debris containing/contaminated with COCs at concentrations which pose an excess lifetime cancer risk (ELCR) greater than 1 × 10−⁶ or which have a HI of greater than 1 (based on a residential use scenario). The RAOs for the Unnamed Creek are to prevent human ingestion of, dermal contact with, or inhalation of sediment contaminated with chemicals of concern at concentration levels which pose an ELCR greater than 1 × 10−⁶, or which have a HI of 1 or greater (based on a recreational use scenario). In addition, both the North and South properties and Unnamed Creek have RAOs for ground water to prevent human ingestion of water which contains COCs exceeding non-zero maximum contaminant level goals (MCLGs) or maximum contaminant levels (MCLs) where the corresponding MCL is zero in ground water at the 60 foot aquifer.

Prior to remedy implementation the site required activities including: Grubbing; staging for contaminated soils; asbestos abatement; building demolition and disposal of materials; and removal and disposal of debris piles.

The four major components of the selected remedy for soils/sediments included:

• Excavation of surface and near-surface soil/sediment that exceeded remediation goals

• Thermal desorption of excavated soil/sediment that exceeds Land Disposal Restriction

• Disposal of excavated soil/sediment

• Backfilling and revegetation

In addition to these components for soils remediation, the site would also require:

• Inspection

• Ground water Monitoring

• Institutional Controls/Deed Restrictions

The purpose of the response actions conducted at the Site was to protect public health and welfare and the environment from releases or threatened releases of hazardous substances from the site. Potential exposure to affected soil, ground water, surface water and sediment was determined to be associated with human health risks higher than the acceptable range. The primary threats that the Site posed to public health and safety were direct contact with on-site waste material and/or the transport of these materials and/or potential hazardous constituents and/or air emissions to nearby populated areas by surface runoff, severe flooding, or disruption of waste areas. This threat was minimized with the Time-Critical Removal Action which only addressed source control (i.e., removal of on-site tanks/vessels containing hazardous substances and the removal of the soil surrounding these tanks). Contaminated soil and sediment outside the main process area were not addressed during the removal action.

Response Actions

A Remedial Design (RD) to define the implementation of the remedy for the Site was completed by EPA in May 2002. The RD described in detail the components of the selected remedy identified in the ROD.

EPA began the Remedial Action (RA) in November 2003 with excavation and LTTD completion in September 2004. Soil and sediment were excavated from arsenic-only and arsenic-PAH areas and stockpiled separately. Arsenic-only soil/sediment was excavated, staged in 300 cubic yard stockpiles, sampled to verify compliance with land-disposal regulations (LDRs), and transported off-site for disposal. Arsenic-PAH contaminated soil/sediment was excavated, stockpiled for drying and/or mixed with lime, treated in LTTD unit, staged in approximately 300 CY stockpiles, sampled for PAHs and Toxicity Characteristic Leaching Procedure (TCLP) arsenic and chromium to verify compliance with applicable LDRs, and transported off-site for disposal. Arsenic concentrations from post excavation sampling ranged from 3.2 milligrams per kilogram (mg/kg) to 6.3 mg/kg, all well below the remediation goal (RG) of 20 mg/kg.

Benzo(a)anthracene was selected in the Remedial Investigation (RI) to illustrate the extent of PAH contamination as it was the organic constituent most frequently detected above the state screening criteria in use that time. Benzo(a)anthracene sampling results ranged from 0.08 mg/kg to 210 mg/kg with an average of 29.0 mg/kg. While the comparison showed exceedances for contaminants of potential concern (as identified in the RI) at eight of the 19 locations sampled, these exceedances were found in a limited area along a drainage pathway on the north property, north of SH 959.

A subsequent investigation in response to Hurricanes Katrina and Rita was performed by EPA in October 2005, to determine if the impact of the hurricanes affected the integrity of the remedy. This resulted in additional excavation and removal of approximately 980 cubic yards of soils that was performed in May 2006.

As part of the selected remedy identified in the ROD, Institutional Controls were implemented in areas where contaminants were left in place in the subsurface at concentrations above the Remediation Goals. A Conveyance Notification was filed with the Clerk of Court on September 30, 2005, in accordance with CERCLA guidelines, which allows for unrestricted access in the upper three feet of soils, but provides restrictions under State law on disturbing or moving deeper soils (greater than five feet). Another component of the selected remedy was the implementation of a ground water monitoring system to monitor contaminant levels in the ground water. This component of the selected remedy has ceased. Ground water was to be monitored to ensure that wastes left in place do not affect the ground water because soils with organic contamination would be left in place in the subsurface (greater than 5 feet below ground surface [bgs]). The ROD required that ground water samples would be collected on an annual basis, but the sampling frequency may be modified if there are statistically significant changes in ground water sample concentrations.

Nine ground water monitoring wells were installed during the RI. The only ground water encountered during the RI was that observed in shallow soil under the drainage pathway (−10 ft bgs), and that observed in the −65 ft bgs aquifer. Three wells were installed at 10 ft bgs along the drainage pathway to check for free-phase creosote migration; these wells accumulated some water (only two accumulated enough for sampling). The only exceedances of chemicals of potential concern were found in the monitoring wells installed in the shallow ground water 10 feet bgs beneath the drainage pathway where most of the surficial creosote-related contamination remained. Non-aqueous phase liquids were not found in the onsite wells during the RI. However, approximately 0.2 feet of a dense nonaqueous phase liquid (DNAPL) was detected in shallow site monitoring well, MW-S3E2, and a trace was detected in shallow monitoring well, MW-S2E2, during RD data collection activities in November 2001.

Ground water evaluation performed during both the RI and RA indicated the shallow 10 feet bgs ground water zone is not laterally continuous beyond the drainage pathway, and does not demonstrate significant volumes of water (one of three wells installed in this zone did not generate enough water to sample). The ground water encountered at 55 to 65 feet bgs demonstrates capacities that are borderline at best for meeting LDEQ's 2B classification for potentially potable ground water, and ground water is not used from within this or any other zone in the vicinity of the site. Monitoring well abandonment began in late February 2004 and was completed in early March 2004, concurrent with the RA Site Preparation stage of the work. The deepest site excavations for LTTD treatment took place in the area where chemicals of potential concern were found in the monitoring wells installed in the shallow ground water 10 feet bgs beneath the drainage pathway. Excavation likely removed the small amounts of DNAPL found during RD data collection. Existing monitoring well MW-S2E5 was left in place as originally planned, but the number of new monitoring wells was reduced from eight to one (MW-1 was installed in January 2005) based on the expectation that two monitoring wells would be sufficient for evaluation of potential migration to ground water based on the limited area of potential ground water contamination observed during site cleanup. A total of 8 (eight) of the monitoring wells installed during the RI were properly plugged and abandoned.

After one year of ground water monitoring showing no screening level exceedances, these two remaining monitoring wells were removed by EPA (properly plugged and abandoned) at the request of LDEQ. EPA believes that limited ground water contamination is not likely to exceed screening levels. A Final Close-Out Report for the site was signed June 29, 2006.

Cleanup Goals

As noted in the ROD, the RGs were calculated for surface soil/sediment on the North and South Properties based on 1 × 10−⁶ carcinogenic risk using adult and child resident and construction worker exposure scenarios. To be protective of both residents and construction workers, the lowest of the risk based concentrations was selected as the RG. The resulting arsenic RG for surface soil/sediment (0 to 3.0 feet bgs) was calculated as 0.03 parts per million (ppm). Since this concentration was lower than the background concentration, and could not be met, the arsenic RG was set at the background concentration of 20 ppm. This corresponds to a residential risk level of 1 × 10−⁴. The RGs calculated for the 3-5 feet bgs interval for the North Property were based on 1 × 10−⁵ carcinogenic risk using a future utility worker scenario. The resulting arsenic RG for surface soil/sediment as calculated as 300 ppm. As noted in the ROD, the 1 × 10−⁵ carcinogenic risk was chosen because: (1) The area that requires action is a hot spot (hot spot is defined as a small area), and; (2) the probability that utility lines will be located in this exact hot spot is unlikely since the hot spot is located near the Unnamed reek.

The RGs calculated for the Unnamed Creek were based on 1 × 10−⁵ carcinogenic risk using a recreational youth and adult hunter scenario. As noted in the ROD, since the creek is located on several individual residents' property, recreational youth and adult hunter access to the creek are limited. Therefore, 1 × 10−⁵ was used. The resulting arsenic RG was calculated as 160 ppm.

Operation and Maintenance

Because ground water monitoring wells are no longer present on-site, Operation and Maintenance (O&M) of a ground water monitoring network is no longer required. The O&M operations now required are maintaining the site such that soils greater than three feet bgs are not exposed. The parish ensures that site fencing is maintained while the site is being used for hurricane debris staging.

Five-Year Review

The First Five-Year Review of the Site was completed in April 21, 2009. Based on the information available during this first Five-Year Review, the selected remedy is performing as intended. The selected remedy is currently protective of human health and the environment in the short term. This determination is based on the results from treated waste and soil sampling and shallow ground water sampling. It is also based on the fact that wastes and contaminated soils have been removed from the site or treated through LTTD, and those wastes remaining, greater than five feet in depth, have been addressed with the implementation of institutional controls. For the remedy to remain protective in the long-term the site should not be used for staging of household waste/debris or treated wood timbers, the security fencing around the site should be maintained to prevent illegal disposal, the conveyance notice should be maintained, and contamination remaining below five feet must remain unexposed. The site security fencing is being maintained and the parish continues work to address issues of limited illegal dumping on the site.

Community Involvement

Public participation activities have been satisfied as required in CERCLA section 113(k), 42 U.S.C. 9613(k), and CERCLA section 117, 42 U.S.C. 9617. Documents in the deletion docket which EPA relied on for recommendation of the deletion from the NPL are available to the public in the information repositories.

Determination That the Site Meets the Criteria for Deletion in the NCP

The NCP (40 CFR 300.425(e)) states that a site may be deleted from the NPL when no further response action is appropriate. EPA, in consultation with the State of Louisiana, has determined that all appropriate Fund-financed response under CERCLA has been implemented, and no further response action by responsible parties is appropriate.

V. Deletion Action

The EPA, with concurrence of the State of Louisiana, through the Louisiana Department of Environmental Quality, has determined that all appropriate responses under CERCLA, other than maintenance of institutional controls and five-year reviews, have been completed. Therefore, EPA is deleting the Site from the NPL.

Because EPA considers this action to be noncontroversial and routine, EPA is taking it without prior publication. This action will be effective September 18, 2009 unless EPA receives adverse comments by August 19, 2009. If adverse comments are received within the 30-day public comment period, EPA will publish a timely withdrawal of this direct final notice of deletion before the effective date of the deletion and it will not take effect. EPA will prepare a response to comments and continue with the deletion process on the basis of the notice of intent to delete and the comments already received. There will be no additional opportunity to comment.

List of Subjects in 40 CFR Part 300

Environmental protection, Air pollution control, Chemicals, Hazardous waste, Hazardous substances, Intergovernmental relations, Penalties, Reporting and recordkeeping requirements, Superfund, Water pollution control, Water supply.

Dated: July 10, 2009.
Lawrence E. Starfield,
Acting Regional Administrator, Region 6.

For the reasons set out in this document, 40 CFR part 300 is amended as follows:

PART 300—[AMENDED]

1. The authority citation for part 300 continues to read as follows:

Authority: 33 U.S.C. 1321(c)(2); 42 U.S.C. 9601-9657; E.O. 12777, 56 FR 54757, 3 CFR, 1991 Comp., p.351; E.O. 12580, 52 FR 2923, 3 CFR, 1987 Comp., p.193.

Appendix B to Part 300 [Amended]

2. Table 1 of Appendix B to Part 300 is amended under Louisiana by removing “Central Wood Preserving Co”, “Slaughter, LA”.

[FR Doc. E9-17169 Filed 7-17-09; 8:45 am]

BILLING CODE 6560-50-P